NUCLEAR REGULATORY COMMISSION

[Dockets No. 50-295; 50-304, Licenses No. DPR-39; DPR-48, EA 98-518]

In the Matter of Commonwealth Edison Company, Zion Nuclear Station, Units 1 and 2; Order Imposing Civil Monetary Penalty

I

The Commonwealth Edison Company (Licensee) is the holder of Operating Licenses No. DPR-39 and No. DPR-48, issued by the Nuclear Regulatory Commission (NRC or Commission) on October 19, 1973, and November 14, 1973, respectively. The licenses authorized the Licensee to operate the Zion Nuclear Station, Zion, Illinois, in accordance with the conditions specified therein. On February 13, 1998, the Licensee ceased nuclear operations at the Zion Nuclear Station.

II

The NRC Office of Investigations (OI) conducted an investigation of the Licensee's activities at the Zion Station from March 10 to October 15, 1998. The results of this investigation indicated that the Licensee had not conducted its activities in full compliance with NRC requirements. A written Notice of Violation and Proposed Imposition of Civil Penalty (Notice) was served upon the Licensee by letter dated November 3, 1999. The Notice states the nature of the violation, the provision of the NRC's requirements that the Licensee had violated, and the amount of the civil penalty proposed for the violation.

The Licensee responded to the Notice in a letter dated February 3, 2000. In its response, the Licensee denied the violation and protested the civil penalty.

III

After considering the Licensee's response and the statements of fact, explanation, and argument for withdrawing the proposed civil penalty contained therein, the NRC staff has determined that the violation occurred as stated and that the penalty proposed for the violation designated in the Notice should be imposed.

IV

In view of the foregoing and pursuant to Section 234 of the Atomic Energy Act of 1954, as amended (Act), 42 U.S.C. 2282, and 10 CFR 2.205, it is hereby ordered that:

The Licensee pay a civil penalty in the amount of $110,000 within 30 days of the date of this Order, in accordance with NUREG/BR-0254. In addition, at the time of making the payment, the licensee shall submit a statement indicating when and by what method payment was made to the Director, Office of Enforcement, U.S. Nuclear Regulatory Commission, One White Flint North, 11555 Rockville Pike, Rockville, MD 20852-2738.

V

The Licensee may request a hearing within 30 days of the date of this Order. Where good cause is shown, consideration will be given to extending the time to request a hearing. A request for extension of time must be made in writing to the Director, Office of Enforcement, U.S. Nuclear Regulatory Commission, Washington, DC 20555, and include a statement of good cause for the extension. A request for a hearing should be clearly marked as a “Request for an Enforcement Hearing” and shall be submitted to the Secretary, U.S. Nuclear Regulatory Commission, ATTN: Rulemakings and Adjudications Staff, Washington, DC 20555. Copies also shall be sent to the Director, Office of Enforcement, U.S. Nuclear Regulatory Commission, Washington, DC 20555, to the Assistant General Counsel for Materials Litigation and Enforcement at the same address, and to the Regional Administrator, NRC Region III, 801 Warrenville Road, Lisle, IL 60532-4351.

If a hearing is requested, the Commission will issue an Order designating the time and place of the hearing. If the Licensee fails to request a hearing within 30 days of the date of this Order (or if written approval of an extension of time in which to request a hearing has not been granted), the provisions of this Order shall be effective without further proceedings. If payment has not been made by that time, the matter may be referred to the Attorney General for collection.

In the event the Licensee requests a hearing as provided above, the issues to be considered at the hearing shall be:

(a) Whether the Licensee was in violation of the Commission's requirements as set forth in the Notice referenced in Section II above, and

(b) Whether, on the basis of that violation, this Order should be sustained.

For the Nuclear Regulatory Commission.
Dated this 12th day of June 2000.
Frank J. Miraglia, Jr.,
Deputy Executive Director for Reactor Programs.

[FR Doc. 00-15636 Filed 6-20-00; 8:45 am]

BILLING CODE 7590-01-P